DEPARTMENT OF HEALTH AND HUMAN SERVICES

Indian Health Service

Reimbursement Rates for Calendar Year 2005

AGENCY: Indian Health Service, HHS.

ACTION: Notice.

SUMMARY: Notice is given that the Director of Indian Health Service (IHS), under the authority of sections 321(a) and 322(b) of the Public Health Service Act (42 U.S.C. 248 and 249(b)), Public Law 83-568 (42 U.S.C. 2001(a)) and the Indian Health Care Improvement Act (25 U.S.C. 1601 et seq.), has approved the following rates for inpatient and outpatient medical care provided by IHS facilities for Calendar Year 2005 for Medicare and Medicaid Beneficiaries and Beneficiaries of other Federal Agencies. The Medicare Part A inpatient rates are excluded from the table below as they are paid based on the prospective payment system. Since the inpatient rates set forth below do not include all physician services and practitioner services, additional payment may be available to the extent that those services meet applicable requirements. Public Law 106-554, dated December 21, 2000, authorized IHS facilities to file Medicare Part B claims with the carrier for payment for physician and certain other practitioner services provided on or after July 1, 2001.

Inpatient Hospital Per Diem Rate (Excludes Physician/Practitioner Services)

Calendar Year 2005

Lower 48 States—$1,542

Alaska—$2,032

Outpatient Per Visit Rate (Excluding Medicare)

Calendar Year 2005

Lower 48 States—$223

Alaska—$391

Outpatient Per Visit Rate (Medicare)

Calendar Year 2005

Lower 48 States—$181

Alaska—$371

Medicare Part B Inpatient Ancillary Per Diem Rate

Calendar Year 2005

Lower 48 States—$312

Alaska—$635

Outpatient Surgery Rate (Medicare)

Established Medicare rates for freestanding Ambulatory Surgery Centers.

Effective Date for Calendar Year 2005 Rates

Consistent with previous annual rate revisions, the Calendar Year 2005 rates will be effective for services provided on/or after January 1, 2005 to the extent consistent with payment authorities including the applicable Medicaid State plan.

Dated: May 20, 2005
Charles W. Grimm,
Assistant Surgeon General, Director, Indian Health Service.

[FR Doc. 05-10650 Filed 5-26-05; 8:45 am]

BILLING CODE 4165-16-P